DEPARTMENT OF COMMERCE

Patent and Trademark Office

Agency Information Collection Activities; Submission to the Office of Management and Budget (OMB) for Review and Approval; Comment Request; Initial Patent Applications

AGENCY: United States Patent and Trademark Office, Department of Commerce.

ACTION: Notice of information collection; request for comment.

SUMMARY: The United States Patent and Trademark Office (USPTO), in accordance with the Paperwork Reduction Act of 1995, invites comments on the extension and revision of an existing information collection: 0651-0032 (Initial Patent Applications). The purpose of this notice is to allow 60 days for public comment preceding submission of the information collection to OMB.

DATES: To ensure consideration, comments regarding this information collection must be received on or before November 30, 2020.

ADDRESSES: Interested persons are invited to submit written comments by any of the following methods. Do not submit Confidential Business Information or otherwise sensitive or protected information.

• Email: InformationCollection@uspto.gov. Include “0651-0032 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to the attention of Raul Tamayo, Senior Legal Advisor, Office of Patent Legal Administration, United States Patent and Trademark Office, P.O. Box 1450, Alexandria, VA 22313-1450; by telephone at 571-272-7728; or by email to raul.tamayo@uspto.gov. Additional information about this information collection is also available at http://www.reginfo.gov under “Information Collection Review.”

SUPPLEMENTARY INFORMATION:

I. Abstract

The USPTO is required by Title 35 of the United States Code, including 35 U.S.C. 131, to examine applications for patents. The USPTO administers the patent statutes through various rules in Chapter 37 of the Code of Federal Regulations, including 37 CFR 1.16 through 1.84. Each patent applicant must provide sufficient information to allow the USPTO to properly examine the application to determine whether it meets the criteria set forth in the patent statutes and regulations for issuance as a patent. For example, the patent statutes and regulations require that an application for patent include the following information:

(1) A specification containing a description of the invention and at least one claim defining the property right sought by the applicant;

(2) A drawing(s) or photograph(s), where necessary, for an understanding of the invention;

(3) An oath or declaration signed by the applicant; and

(4) A filing fee.

The following types of patent applications are covered under the present information collection:

(1) New original utility, plant, design, and provisional applications;

(2) Continuation/divisional applications of international applications;

(3) Continued prosecution applications (design); and

(4) Continuation, divisional, and continuation-in-part applications of utility, plant, and design applications.

In addition, this information collection covers petitions to accept an unintentionally delayed priority or benefit claim, petitions under 37 CFR 1.47 (pre-Leahy-Smith America Invents Act (AIA)) to accept a filing by other than all of the inventors or a person not the inventor, petitions under 37 CFR 1.6(g) to accord an application under 37 CFR 1.495(b) a receipt date, and papers filed under 37 CFR 1.41(c), 1.41(a)(2) (pre-AIA), 1.48(d), 1.53(c)(2), and 1.53(c)(2) (pre-Patent Law Treaty (PLT) (AIA)) (the particular items covered under this information collection are identified in more detail at Table 1 below).

Most applications for a patent, including new utility, design, and provisional applications, can be submitted through the USPTO patent electronic filing systems (EFS-Web or Patent Center). EFS-Web and Patent Center are the USPTO's systems for electronic filing of patent correspondence and are accessible via the internet on the USPTO website. The Legal Framework for Patent Electronic System is available at https://www.uspto.gov/patents-application-process/filing-online/legal-framework-efs-web.

The forms in this information collection include: (1) Versions of the inventor's oath and declaration forms that were created to comply with the changes resulting from the AIA, e.g., forms AIA/01, AIA/02, etc., (2) pre-AIA versions of the oath and declaration forms, e.g., forms SB/01, SB/02, etc., and (3) foreign language translations of the oath and declaration forms, e.g., forms AIA/01CN, SB/02CN, etc. Items in this information collection that do not have forms associated with them include the petitions and the papers filed under 37 CFR 1.41(c), 1.41(a)(2) (pre-AIA), 1.48(d), 1.53(c)(2), and 1.53(c)(2) (pre-PLT (AIA)).

II. Method of Collection

As set forth in the Legal Framework for Patent Electronic System, available at https://www.uspto.gov/patents-application-process/filing-online/legal-framework-efs-web, most of the items in this information collection can be submitted through EFS-Web. The USPTO also will accept submissions by mail, facsimile (except that in accordance with 37 CFR 1.6(d), the items covered under this information collection that may be submitted by facsimile are limited to the petitions and the papers filed under 37 CFR 1.41(c), 1.41(a)(2) (pre-AIA), 1.48(d), 1.53(c)(2), and 1.53(c)(2) (pre-PLT (AIA))), or hand delivery to the USPTO.

III. Data

OMB Number: 0651-0032.

Form Number(s): (AIA= American Invents; SB = Specimen Book).

• PTO/SB/06 (Patent Application Fee Determination Record (Substitute for Form PTO-875)

• PTO/SB/07 (Multiple Dependent Claim Fee Calculation Sheet (Substitute for Form PTO-1360; For Use with Form PTO/SB/06)

• PTO/SB/17 (Fee Transmittal Form)

• PTO/AIA/15 (Utility Patent Application Transmittal)

• PTO/AIA/18 (Design Patent Application Transmittal)

• PTO/AIA/19 (Plant Patent Application Transmittal)

• PTO/SB/01 (Declaration for Utility or Design Patent Application (37 CFR 1.63))

• PTO/SB/AIA/01 (Declaration (37 CFR 1.63) for Utility or Design Patent Application using an Application Data Sheet (37 CFR 1.76))

• PTO/AIA/01CN (Chinese Language Declaration (37 CFR 1.63) for Utility or Design Application Using an Application Data Sheet (37 CFR 1.76))

• PTO/AIA/01DE (German Language Declaration (37 CFR 1.63) for Utility or Design Application Using an Application Data Sheet (37 CFR 1.76))

• PTO/AIA/01ES (Spanish Language Declaration (37 CFR 1.63) for Utility or Design Application Using an Application Data Sheet (37 CFR 1.76))

• PTO/AIA/01FR (French Language Declaration (37 CFR 1.63) for Utility or Design Application Using an Application Data Sheet (37 CFR 1.76))

• PTO/AIA/01IT (Italian Language Declaration (37 CFR 1.63) for Utility or Design Application Using an Application Data Sheet (37 CFR 1.76))

• PTO/AIA/01JP (Japanese Language Declaration (37 CFR 1.63) for Utility or Design Application Using an Application Data Sheet (37 CFR 1.76))

• PTO/AIA/01KR (Korean Language Declaration (37 CFR 1.63) for Utility or Design Application Using An Application Data Sheet (37 CFR 1.76))

• PTOAIA/01NL (Dutch Language Declaration (37 CFR 1.63) for Utility or Design Application Using an Application Data Sheet (37 CFR 1.76))

• PTO/AIA/01RU (Russian Language Declaration (37 CFR 1.63) for Utility or Design Application Using An Application Data Sheet (37 CFR 1.76))

• PTO/AIA/01SE (Swedish Language Declaration (37 CFR 1.63) for Utility or Design Application Using an Application Data Sheet (37 CFR 1.76))

• PTO/SB/AIA08 (Declaration for Utility or Design Patent Application (37 CFR 1.63))

• PTO/SB/AIA10 (Declaration (Supplemental Sheet for PTO/SB/AIA08, Declaration (Additional Inventors) and Supplemental Priority Data Sheet)

• PTO/SB/02 (Declaration (Supplemental Sheet for PTO/SB/AIA08 Declaration (Additional Inventors) and Supplemental Priority Data Sheet)

• PTO/SB/02A (Declaration—Additional Inventors—Supplemental Sheet)

• PTO/SB/AIA02 (Substitute Statement in Lieu of an Oath or Declaration for Utility or Design Patent Application (35 U.S.C. 115(d) and 37 CFR 1.64))

• PTO/SB/AIA11 (Substitute Statement Supplemental Sheet (supplemental sheet for PTO/SB/AIA02))

• PTO/SB/02B (Declaration—Supplemental Priority Data Sheet)

• PTO/SB/02CN (Declaration (Additional Inventors) and Supplemental Priority Data Sheets [2 pages] (Chinese Language Declaration for Additional Inventors)

• PTO/AIA/02CN (Chinese (Simplified) Language Substitute Statement in Lieu of an Oath or Declaration for Utility or Design Patent Application (35 U.S.C. 115(d) and 37 CFR 1.64))

• PTO/SB/02DE (Declaration (Additional Inventors) and Supplemental Priority Data Sheets [2 pages] (German Language Declaration for Additional Inventors))

• PTO/AIA/02DE (German Language Substitute Statement in Lieu of an Oath or Declaration for Utility or Design Patent Application (35 U.S.C. 115(d) and 37 CFR 1.64))

• PTO/SB/02ES (Declaration (Additional Inventors) and Supplemental Priority Data Sheet [2 pages] (Spanish Language Declaration for Additional Inventors))

• PTO/AIA/02ES (Spanish Language Substitute Statement in Lieu of an Oath or Declaration for Utility or Design Patent Application (35 U.S.C. 115(d) and 37 CFR 1.64))

• PTO/SB/02FR (Declaration (Additional Inventors) and Supplemental Priority Data Sheet [2 pages] (French Language Declaration for Additional Inventors))

• PTO/AIA/02FR (French Language Substitute Statement in Lieu of an Oath or Declaration for Utility or Design Patent Application (35 U.S.C. 115(d) and 37 CFR 1.64))

• PTO/SB/02IT (Declaration (Additional Inventors) and Supplemental Priority Data Sheet [2 pages] (Italian Language Declaration for Additional Inventors))

• PTO/AIA/02IT (Italian Language Substitute Statement in Lieu of an Oath or Declaration for Utility or Design Patent Application (35 U.S.C. 115(d) and 37 CFR 1.64))

• PTO/SB/02JP (Japanese Language Substitute Statement in Lieu of an Oath or Declaration for Utility or Design Patent Application (35 U.S.C. 115(d) and 37 CFR 1.64))

• PTO/SB/02KR (Declaration (Additional Inventors) and Supplemental Priority Data Sheet [2 pages] (Korean Language Declaration for Additional Inventors))

• PTO/AIA/02KR (Korean Language Substitute Statement in Lieu of an Oath or Declaration for Utility or Design Patent Application (35 U.S.C. 115(d) and 37 CFR 1.64))

• PTO/SB/02NL (Declaration (Additional Inventors) and Supplemental Priority Data Sheet [2 pages] (Dutch Language Declaration for Additional Inventors))

• PTO/AIA/02NL (Dutch Language Substitute Statement in Lieu of an Oath or Declaration for Utility or Design Patent Application (35 U.S.C. 115(d) and 37 CFR 1.64))

• PTO/SB/02RU (Declaration (Additional Inventors) and Supplemental Priority Data Sheet [2 pages] (Russian Language Declaration for Additional Inventors))

• PTO/AIA/02RU (Russian Language Substitute Statement in Lieu of an Oath or Declaration for Utility or Design Patent Application (35 U.S.C. 115(d) and 37 CFR 1.64))

• PTO/SB/02SE (Declaration (Additional Inventors) and Supplemental Priority Data Sheet [2 pages] (Swedish Language Declaration for Additional Inventors))

• PTO/AIA/02SE (Swedish Language Substitute Statement in Lieu of an Oath or Declaration for Utility or Design Patent Application (35 U.S.C. 115(d) and 37 CFR 1.64))

• PTO/SB/02LR (Declaration Supplemental Sheet for Legal Representatives (35 U.S.C. 117) on Behalf of a Deceased or Incapacitated Inventor)

• PTO/SB/03 (Plant Patent Application (35 U.S. C. 161) Declaration (37 CFR 1.63))

• PTO/SB/AIA03 (Declaration (37 CFR 1.63) for Plant Patent Application using an Application Data Sheet (37 CFR 1.76))

• PTO/SB/AIA09 (Plant Patent Application (35 U.S.C. 161) Declaration (37 CFR 1.162))

• PTO/SB/04 (Supplemental Declaration for Utility or Design Patent Application (37 CFR 1.67))

• PTO/SB/AIA04 (Substitute Statement in Lieu of an Oath or Declaration for Plant Patent Application (35 U.S.C. 115(d) and 37 CFR 1.64))

• PTO/SB/AIA11 (Substitute Statement Supplemental Sheet (Supplemental Sheet for PTO/SB/AIA04))

• PTO/SB/AIA10 (Declaration (Supplemental Sheet for PTO/SB/AIA09))

• PTO/SB/101 through 110 (Declaration and Power of Attorney for Patent Application (in various foreign languages))

• PTO/SB/01A (Declaration (37 CFR 1.63) for Utility or Design Application Using an Application Data Sheet (37 CFR 1.76))

• PTO/SB/03A (Declaration (37 CFR 1.63) for Plant Application Using an Application Data Sheet (37 CFR 1.76))

• PTO/SB/14 EFS-Web (Application Data Sheet Form)

• PTO/AIA/14 (Application Data Sheet 37 CFR 1.76)

• EFS-Web (Electronic New Utility Patent Application and Electronic New Design Application)

• PTO/SB/29 (For Design Applications Only: Continued Prosecution Application (CPA) Request Transmittal)

• PTO/SB/29A (For Design Applications Only: Receipt for Facsimile Transmitted CPA)

• PTO/SB/16 (Provisional Application for Patent Cover Sheet—Paper and Electronic Filing)

Type of Review: Revision of a currently approved information collection.

Affected Public: Private sector; individuals or households.

Estimated Number of Respondents: 633,209 respondents per year.

Estimated Number of Responses: 633,209 responses per year.

Estimated Time per Response: The USPTO estimates that it takes the respondents between 45 minutes to 40 hours (.75 to 40 hours) to complete a response, depending on the complexity of the particular item. This includes the time to gather the necessary information, create the documents, and submit the completed item to the USPTO.

Estimated Total Annual Respondent Burden Hours: 15,598,813 hours.

Estimated Total Annual Respondent Hourly Cost Burden: $6,239,525,200.

Table 1—Total Hourly Burden for Private Sector Respondents
Item No. | Item | Estimated annual respondents | Estimated annual responses (year) | Estimated time for response (hours) | Estimated annual burden (hour/year) | Rate ¹ ($/hour) | Estimated annual burden
|  |  | (a) | (b) | (a) × (b) = c | (d) | (c) × (d) = e
1 | Original New Utility Applications | 283,425 | 283,425 | 40 | 11,337,000 | $400 | $4,534,800,000
2 | Original New Plant Applications | 1,333 | 1,333 | 9 | 11,997 | 400 | 4,798,800
3 | Original New Design Applications | 38,425 | 38,425 | 7 | 268,975 | 400 | 107,590,000
4 | Continuation/Divisional of an International Application | 10,055 | 10,055 | 4 | 40,220 | 400 | 16,088,000
5 | Utility Continuation/Divisional Applications | 94,820 | 94,820 | 4 | 379,280 | 400 | 151,712,000
6 | Plant Continuation/Divisional Application | 12 | 12 | 3 | 36 | 400 | 14,400
7 | Design Continuation/Divisional Application | 5,238 | 5,238 | 1 | 5,238 | 400 | 2,095,200
8 | Continued Prosecution Applications—Design (Request Transmittal and Receipt) | 1,272 | 1,272 | 1 | 1,272 | 400 | 508,800
9 | Utility Continuation-in-Part Applications | 10,831 | 10,831 | 20 | 216,620 | 400 | 86,648,000
10 | Design Continuation-in-Part Applications | 1,078 | 1,078 | 3 | 3,234 | 400 | 1,293,600
11 | Provisional Application for Patent Cover Sheet | 158,174 | 158,174 | 18 | 2,847,132 | 400 | 1,138,852,800
12 | Petition to Accept Unintentionally Delay Priority/Benefit Claim | 1,978 | 1,978 | 1 | 1,978 | 400 | 791,200
13 | Petition Under 37 CFR 1.47 (pre-AIA) to Accept a Filing by Other Than all the Inventors or a Person not the Inventor | 39 | 39 | 1 | 39 | 400 | 15,600
14 | Papers filed under the following: | 7,026 | 7,026 | .75 | 5,270 | 400 | 2,108,000
| 1.41(c) or 1.41(a)(2) (pre-AIA)—to supply the name or names of the inventor or inventors after the filing date without a cover sheet as prescribed by 37 CFR 1.51(c)(1) in a provisional application
| 1.48(d)—for correction of inventorship in a provisional application.
| 1.53 (c)(2) or 1.53(c)(2) (pre-PLT (AIA))—to convert a nonprovisional application filed under 1.53(b) to a provisional application filed under 1.53(c)
Total |  | 613,706 | 613,706 |  | 15,118,291 |  | 6,047,316,400
¹ 2019 Report of the Economic Survey, published by the Committee on Economics of Legal Practice of the American Intellectual Property Law Association (AIPLA); https://www.aipla.org/detail/journal-issue/2019-report-of-the-economic-survey. The USPTO uses the mean rate for attorneys in private firms which is $400 per hour.

Table 2—Total Hourly Burden for Individuals and Households Respondents
Item No. | Item | Estimated annual respondents | Estimated annual responses (year) | Estimated time for response (hours) | Estimated annual burden (hour/year) | Rate ² ($/hour) | Estimated annual burden
|  |  | (a) | (b) | (a) × (b) = c | (d) | (c) × (d) = e
1 | Original New Utility Applications | 9,009 | 9,009 | 40 | 360,360 | $400 | $144,144,000
2 | Original New Plant Applications | 42 | 42 | 9 | 378 | 400 | 151,200
3 | Original New Design Applications | 1,221 | 1,221 | 7 | 8,547 | 400 | 3,418,800
4 | Continuation/Divisional of an International Application | 320 | 320 | 4 | 1,280 | 400 | 512,000
5 | Utility Continuation/Divisional Applications | 3,013 | 3,013 | 4 | 12,052 | 400 | 4,820,800
6 | Design Continuation/Divisional Application | 166 | 166 | 1 | 166 | 400 | 66,400
8 | Continued Prosecution Applications—Design (Request Transmittal and Receipt) | 40 | 40 | 1 | 40 | 400 | 16,000
9 | Utility Continuation-in-Part Applications | 344 | 344 | 20 | 6,880 | 400 | 2,752,000
10 | Design Continuation-in-Part Applications | 34 | 34 | 3 | 102 | 400 | 40,800
11 | Provisional Application for Patent Cover Sheet | 5,027 | 5,027 | 18 | 90,486 | 400 | 36,194,400
12 | Petition to Accept Unintentionally Delay Priority/Benefit Claim | 63 | 63 | 1 | 63 | 400 | 25,200
13 | Petition Under 37 CFR 1.47 (pre-AIA) to Accept a Filing by Other Than all the Inventors or a Person not the Inventor | 1 | 1 | 1 | 1 | 400 | 400
14 | Papers filed under the following:
| 1.41(c) or 1.41(a)(2) (pre-AIA)—to supply the name or names of the inventor or inventors after the filing date without a cover sheet as prescribed by 37 CFR 1.51(c)(1) in a provisional application | 223 | 223 | .75 | 167 | 400 | 66,800
| 1.48(d)—for correction of inventorship in a provisional application
| 1.53(c)(2) or 1.53(c)(2) (pre-PLT (AIA))—to convert a nonprovisional application filed under 1.53(b) to a provisional application filed under 1.53(c)
Total |  | 19,503 | 19,503 |  | 480,522 |  | 192,208,800
² 2019 Report of the Economic Survey, published by the Committee on Economics of Legal Practice of the American Intellectual Property Law Association (AIPLA); https://www.aipla.org/detail/journal-issue/2019-report-of-the-economic-survey. The USPTO uses the mean rate for attorneys in private firms which is $400 per hour.

Estimated Total Annual Non-Hour Respondent Cost Burden: $1,205,915,848. There are no maintenance, operation, capital start-up, or recordkeeping costs associated with this information collection. However, this information collection does have annual (non-hour) costs in the form of postage, drawing costs, and filing fees.

Although the USPTO prefers that the items in this information collection be submitted electronically, the items may be submitted by mail through the United States Postal Service (USPS). The USPTO estimates that the average cost for sending a patent application by Priority Mail Express® 1 day legal envelope will be $26.50 and that up to 14,440 applications may be mailed to the USPTO, resulting in $382,660 in postage costs.

The USPTO estimates that the petitions and other papers covered under this information collection, if submitted by mail, will be sent by first-class mail (2 Day Priority Express for a flat rate legal envelope) at an average postage rate of $8.05. The USPTO estimates that up to 301 petitions and other papers may be mailed per year, thus resulting in $2,423 in first-class mailing costs.

Patent applicants can submit drawings with the applications covered under this information collection. As a basis for estimating the drawing costs, the USPTO expects that all applicants will have their drawings prepared by patent illustration firms.

Estimates for the drawings can vary greatly, depending on the number of figures that need to be produced, the total number of pages for the drawings, and the complexity of the drawings. Because there are many variables involved, the USPTO is using the average of the cost ranges found for the application drawings to derive the estimated cost per sheet that is then used to calculate the total drawing costs.

The USPTO estimates that total drawing cost is $601,432,030. The break-down of costs for utility, design, plant, and provisional drawings is broken down in table 3 below.

Table 3—Drawing Cost to Respondents
Item No. | Item | Estimated annual responses | Estimated drawing costs amount ($) | Drawing cost totals
|  | (a) | (b) | (a) × (b) = c
1 | Utility Application Drawings | 292,434 | $1,150 | $336,299,100
3 | Design Applications Drawings | 39,646 | 1,930 | 76,516,780
2 | Plant Application Drawings (Photographs) | 1,375 | 680 | 935,000
15 | Provisional Application Drawings | 163,201 | 1,150 | 187,681,150
Total Drawing Costs |  | 496,656 |  | 601,432,030

In this information collection, there is also an annual (non-hour) cost burden in the way of filing fees. The total estimated filing cost for this information collection is $604,098,735 and is detailed in table 4 below.

Table 4—Total Non-Hour Respondent Cost
Item No. | Item | Estimated annual responses | Amount | Totals
|  | (a) | (b) | (a) × (b) = c
1, 4 | Basic Filing fee—Utility (Paper Filing—Also Requires Non-Electronic Filing Fee Under 1.16(t)) (large entity) | 233,866 | $320 | $74,837,120
1, 4 | Basic Filing fee—Utility (Paper Filing—Also Requires Non-Electronic Filing Fee Under 1.16(t)) (small entity) | 749 | 160 | 119,840
1, 4 | Basic Filing fee—Utility (Paper Filing—Also Requires Non-Electronic Filing Fee Under 1.16(t)) (micro entity) | 15,940 | 80 | 1,275,200
1, 4 | Utility Application Size Fee—for Each Additional 50 Sheets That Exceeds 100 Sheets (large entity) | 7,242 | 420 | 3,041,640
1, 4 | Utility Application Size Fee—for Each Additional 50 Sheets That Exceeds 100 Sheets (small entity) | 3,885 | 210 | 815,850
1, 4 | Utility Application Size Fee—for Each Additional 50 Sheets That Exceeds 100 Sheets (micro entity) | 108 | 105 | 11,340
1, 4 | Utility Search Fee (large entity) | 233,861 | 700 | 163,702,700
1, 4 | Utility Search Fee (small entity) | 79,942 | $350 | $27,979,700
1, 4 | Utility Search Fee (micro entity) | 15,718 | 175 | 2,750,650
1, 4 | Utility Examination Fee (large entity) | 233,362 | 800 | 186,689,600
1, 4 | Utility Examination Fee (small entity) | 79,842 | 400 | 31,936,800
1, 4 | Utility Examination Fee (micro entity) | 15,696 | 200 | 3,139,200
1,2 4-6, and 9 | Each Independent Claim in Excess of Three (large entity) | 31,900 | 480 | 15,312,000
1,2 4-6, and 9 | Each Independent Claim in Excess of Three (small entity) | 11,200 | 240 | 2,688,000
1,2 4-6, and 9 | Each Independent Claim in Excess of Three (micro entity) | 1,100 | 120 | 132,000
1,2 4-6, and 9 | Each Claim in Excess of 20 (large entity) | 57,300 | 100 | 5,730,000
1,2 4-6, and 9 | Each Claim in Excess of 20 (small entity) | 25,800 | 50 | 1,290,000
1,2 4-6, and 9 | Each Claim in Excess of 20 (micro entity) | 1700 | 25 | 42,500
1,2 4-6, and 9 | Multiple Dependent Claim (large entity) | 1144 | 860 | 983,840
1,2 4-6, and 9 | Multiple Dependent Claim (small entity) | 750 | 430 | 322,500
1,2 4-6, and 9 | Multiple Dependent Claim (micro entity) | 146 | 215 | 31,390
2, 5 | Plant Examination Fee (micro entity) | 10 | 165 | 1,650
3, 6 | Basic Filing Fee—Design (large entity) | 18,613 | 220 | 4,094,860
3, 6 | Basic Filing Fee—Design (small entity) | 17,665 | 110 | 1,943,150
3, 6 | Basic Filing Fee—Design (micro entity) | 5,634 | 55 | 309,870
3, 6 | Basic Filing Fee—Design (CPA) (large entity) | 534 | 220 | 117,480
3, 6 | Basic Filing Fee—Design (CPA) (small entity) | 455 | 110 | 50,050
3, 6 | Basic Filing Fee—Design (CPA) (micro entity) | 153 | 55 | 8,415
3, 6 | Design Application Size Fee—for Each Additional 50 Sheets That Exceeds 100 Sheets (large entity) | 70 | 420 | 29,400
3, 6 | Design Application Size Fee—for Each Additional 50 Sheets That Exceeds 100 Sheets (small entity) | 38 | 210 | 7,980
3, 6 | Design Application Size Fee—for Each Additional 50 Sheets That Exceeds 100 Sheets (micro entity) | 4 | 105 | 420
3, 6 | Design Search Fee (large entity) | 19,107 | 160 | 3,057,120
3, 6 | Design Search Fee (small entity) | 17,962 | 80 | 1,436,960
3, 6 | Design Search Fee (micro entity) | 5,607 | 40 | 224,280
3, 6 | Design Examination Fee (large entity) | 19,082 | 640 | 12,212,480
3, 6 | Design Examination Fee (small entity) | 17,922 | 320 | 5,735,040
3, 6 | Design Examination Fee (micro entity) | 5,596 | 160 | 895,360
15 | Provisional Application Size Fee—for Each Additional 50 Sheets That Exceeds 100 Sheets (large entity) | 2,621 | 420 | 1,100,820
15 | Provisional Application Size Fee—for Each Additional 50 Sheets That Exceeds 100 Sheets (small entity) | 3,264 | 210 | 685,440
15 | Provisional Application Size Fee—for Each Additional 50 Sheets That Exceeds 100 Sheets (micro entity) | 107 | 105 | 11,235
15 | Provisional Application Filing Fee (large entity) | 63,168 | 300 | 18,950,400
15 | Provisional Application Filing Fee (small entity) | 71,968 | 150 | 10,795,200
15 | Provisional Application Filing Fee (micro entity) | 30,253 | 75 | 2,268,975
16 | Surcharge—Late Filing Fee, Search Fee, Examination Fee, Inventor's Oath or Declaration, or Application Filed Without at least One Claim or by Reference (large entity) | 80,603 | 160 | 12,896,480
16 | Surcharge—Late Filing Fee, Search Fee, Examination Fee, Inventor's Oath or Declaration, or Application Filed Without at least One Claim or by Reference (small entity) | 36,442 | 80 | 2,915,360
16 | Surcharge—Late Filing Fee, Search Fee, Examination Fee, Inventor's Oath or Declaration, or Application Filed Without at least One Claim or by Reference (micro entity) | 4,403 | 40 | 176,120
16 | Surcharge—Late Provisional Filing Fee or Cover Sheet (large entity) | 1,798 | 60 | 107,880
16 | Surcharge—Late Provisional Filing Fee or Cover Sheet (small entity) | 2,849 | 30 | 85,470
16 | Surcharge—Late Provisional Filing Fee or Cover Sheet (micro entity) | 3,308 | 15 | 49,620
17 | Petition Under 37 CFR 1.47 (pre-AIA) to Accept a Filing by Other Than all the Inventors or a Person not the Inventor (micro entity) | 1 | 50 | 50
17 | Electronic Petition Under 37 CFR 1.47 (pre-AIA) to Accept a Filing by Other Than the Inventors or a Person not the Inventor (large entity) | 37 | 200 | 7,400
17 | Electronic Petition Under 37 CFR 1.47 (pre-AIA) to Accept a Filing by Other Than the Inventors or a Person not the Inventor (small entity) | 1 | 100 | 100
17 | Electronic Petition Under 37 CFR 1.47 (pre-AIA) to Accept a Filing by Other Than the Inventors or a Person not the Inventor (micro entity) | 1 | 50 | 50
Total Filing Fee |  |  |  | 604,098,735

Respondent's Obligation: Required to obtain or retain benefits.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment— including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2020-21519 Filed 9-28-20; 8:45 am]

BILLING CODE 3510-16-P